DEPARTMENT OF HOMELAND SECURITY

Coast Guard

33 CFR Part 165

[Docket Number USCG-2025-0332]

RIN 1625-AA00

Safety Zones; Rocket Launches in the Gulf of America and South Bay, Boca Chica Beach, TX

AGENCY: Coast Guard, DHS.

ACTION: Notice of proposed rulemaking.

SUMMARY: The Coast Guard proposes to establish two permanent safety zones to protect personnel, vessels, and the marine environment from potential hazards created by commercial spaceflight activities. The proposed permanent safety zones are located in navigable waters of South Bay, TX and in navigable waters of the Gulf of America. This proposed rulemaking would prohibit persons and vessels from being in the safety zones during scheduled launches, unless authorized by the Captain of the Port, Sector Corpus Christi (COTP) or a designated representative. We invite your comments on this proposed rulemaking.

DATES: Comments and related material must be received by the Coast Guard on or before June 16, 2025.

ADDRESSES: You may submit comments identified by docket number USCG-2025-0332 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Timothy Cardenas, Sector Corpus Christi Waterways Management Division, U.S. Coast Guard; telephone 361-939-5130, email Timothy.J.Cardenas@uscg.mil.

SUPPLEMENTARY INFORMATION:

I. Table of Abbreviations

AOR Area of responsibility

BNM Broadcast Notice to Mariners

CFR Code of Federal Regulations

COTP Captain of the Port

DHS Department of Homeland Security

FAA Federal Aviation Administration

FR Federal Register

MSIB Marine Safety Information Bulletin

NASA National Aeronautics and Space Administration

NOE Notice of Enforcement

NPRM Notice of proposed rulemaking

NM Nautical Mile

§ Section

SpaceX Space Exploration Technologies Corporation

TX Texas

U.S. United States

U.S.C. United States Code

II. Background, Purpose, and Legal Basis

The Coast Guard has long monitored space activities impacting the maritime domain and taken actions to ensure the safety of vessels, persons, and the marine environment during space launch operations. In conducting this activity, the Coast Guard engages with other government agencies, including the Federal Aviation Administration (FAA) and the National Aeronautics and Space Administration (NASA), and private space operators, including Space Exploration Technologies Corporation (SpaceX). This engagement is necessary to ensure the safety of launch operations and waterway users. During this engagement, SpaceX, a U.S. company, informed the Coast Guard of areas within U.S. navigable waters of the Coast Guard Eighth District's area of responsibility (AOR) in South Bay, TX and offshore of Boca Chica Beach, TX in the Gulf of America, that may become hazardous and be impacted by planned future launch activities.

In response to recent SpaceX activities the Coast Guard has published eight temporary final rules in the Federal Register (such as 87 FR 23441) for anticipated rocket launching operations within the Coast Guard District Eight AOR offshore of Boca Chica Beach, TX. Based on the dates the Coast Guard was informed of rocket launching operations and the immediate need to establish safety zones, the Coast Guard did not have sufficient time to publish a notice of proposed rulemaking (NPRM) for those rules. The Coast Guard has determined that these activities will be ongoing, and regularly recurring, and therefore permanent safety zones are required.

The purpose of this proposed rulemaking is to ensure the protection of vessels, persons, and the marine environment in navigable waters of the U.S. from the potential hazards created by rocket launch activities. The Coast Guard is proposing this rulemaking under the authority in 46 U.S.C. 70034.

III. Discussion of Proposed Rule

The Coast Guard is proposing to establish two permanent safety zones in navigable waters of the U.S. for the potential safety hazards associated with the launch of spacecraft over the waters of South Bay, TX and the Gulf of America.

The proposed permanent safety zones are located within the Coast Guard District Eight AOR in South Bay, TX and offshore of Boca Chica Beach, TX in the Gulf of America. The proposed rule would prohibit persons and vessels from being in the safety zone during limited times around scheduled rocket launches, unless authorized by the Captain of the Port, Sector Corpus Christi (COTP) or a designated representative.

The safety zones cover an area of the South Bay, TX approximately 4.5 square miles in size, and an area of the Gulf of America offshore of Boca Chica Beach, TX approximately 115 square miles in size. The approximate coordinates for the two safety zones are presented in the regulatory text at the end of this document.

To the extent feasible, the COTP or a designated representative would inform the public of the activation of the two safety zones by a Notice of Enforcement (NOE) published in the Federal Register at least 2 days before rocket launching activities. The NOE would identify the approximate date(s) and timeframes during which rocket launching activities would occur.

To the extent possible, twenty-four hours before rocket launching activities, the COTP or designated representative would inform the public of the activated safety zones (subject to enforcement) via Broadcast Notice to Mariners on VHF-FM channel 16, and/or MSIB (as appropriate). The BNM and MSIB would include the geographic coordinates of the activated safety zones, a map identifying the location of the activated safety zones, and information related to potential hazards associated with rocket launching activities.

When the safety zone is activated, the COTP or a designated representative would be able to restrict vessel movement including but not limited to transiting, anchoring, or mooring within the safety zone to protect vessels from hazards associated with rocket launching activities. Once rocket launching activities have concluded, the COTP or designated representative would issue a Broadcast Notice to Mariners on VHF-FM channel 16 announcing the activated safety zones are no longer subject to enforcement.

IV. Regulatory Analyses

We developed this proposed rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This NPRM has not been designated a “significant regulatory action,” under section 3(f) of Executive Order 12866. Accordingly, the NPRM has not been reviewed by the Office of Management and Budget (OMB).

This regulatory action determination is based on the size, location, and duration of the safety zones. The safety zones cover an area of the South Bay, TX approximately 4.5 square miles in size, and an area of the Gulf of America, offshore Boca Chica Beach, TX approximately 115 square miles in size. This section will be subject to enforcement 4 to 8 hours each day, with rocket launching currently expected to be twice a month. The rule does not completely prohibit vessel traffic within the waterway, and it allows mariners to request permission to enter the zones.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the temporary safety zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves establishment of two temporary safety zones for navigable waters in the Gulf of America and South Bay, TX. The safety zones are needed to protect personnel, vessels, and the marine environment from potential hazards created by rocket launching activity that may include free falling debris and/or descending vehicles or vehicle components under various means of control. Normally such actions are categorically excluded from further review under paragraph L60(a), in Appendix A, Table 1 of DHS Instruction Manual 023-01-001-01, Rev. 1. For instructions on locating the docket, see the section headed ADDRESSES above. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0332 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.847 to read as follows:

§ 165.847 Safety Zones; Rocket Launches in the Gulf of America and South Bay, Boca Chica Beach, TX.

(a) Location. The following areas are safety zones, all coordinates are based on World Geodetic System (WGS) 84:

(1) Safety Zone A consists of all navigable waters of the Gulf of America from the surface to bottom, encompassed by a line connecting the following points beginning at Point 1A: 26°2′36″ N, 097°9′8″ W; thence to Point 2A: 26°3′0″ N, 097°7′0″ W; thence to Point 3A: 26°7′48″ N, 096°56′2.2″ W; thence south following the 12NM line to the Maritime Boundary Line between the United States of America and Mexico; thence west along the Maritime Boundary Line to Point 4A: 25°57′24.2″ N, 097°8′49″ W; thence returning north along the coast to Point 1.

(2) Safety Zone B consists of all navigable waters of South Bay, from the surface to bottom, encompassed by a line connecting the following points beginning at Point 1B: 26°2′45″ N, 097°11′6.3″ W; thence to Point 2B: 26°2′45″ N, 097°10′53.4″ W; thence clockwise along the coastline of South Bay until returning back to Point 1B.

(b) Definitions. As used in this section, Designated representative means a Coast Guard coxswain, petty officer, or other officer operating a Coast Guard vessel and federal, state, and local officer designated by the COTP in the enforcement of the safety zones.

(c) Regulations. (1) Under the general safety zone regulations in subpart C of this part, you may not enter the safety zones described in paragraph (a) unless authorized by the Captain of the Port, Corpus Christi (COTP) or a designated representative. They may be contacted on Channel 16 VHF-FM or by telephone at 361-939-0450.

(2) If permission is granted, all persons and vessels shall comply with the instructions of the COTP or designated representative.

(d) Notification of Enforcement. (1) To the extent feasible, the COTP or a designated representative will inform the public of the activation of the safety zones by Notice of Enforcement (NOE) published in the Federal Register at least 2 days before rocket launching activities. The NOE would identify the approximate date(s) and time(s) during which rocket launching activities would occur.

(2) To the extent possible, twenty-four hours before rocket launching activities, the COTP or designated representative will inform the public of the activated safety zones (subject to enforcement) via Broadcast Notice to Mariners on VHF-FM channel 16, and/or Marine Safety Information Safety Bulletin (MSIB) (as appropriate).

(3) Once rocket launching activities have concluded, the COTP or designated representative will issue a Broadcast Notice to Mariners on VHF-FM channel 16 announcing the safety zones are no longer subject to enforcement.

Dated: April 17, 2025.
Torrey Bertheau,
Captain, U.S. Coast Guard, Captain of the Port, Sector Corpus Christi.

[FR Doc. 2025-08686 Filed 5-14-25; 8:45 am]

BILLING CODE 9110-04-P